DEPARTMENT OF AGRICULTURE

Forest Service

Notice of Proposed New Fee Sites

AGENCY: Forest Service, Agriculture (USDA).

ACTION: Notice of proposed new fee sites.

SUMMARY: The Arapaho and Roosevelt National Forests are proposing to charge new fees at multiple recreation sites listed in SUPPLEMENTARY INFORMATION of this notice. Funds from fees would be used for operation, maintenance, and improvements of these recreation sites. An analysis of nearby developed recreation sites with similar amenities shows the proposed fees are reasonable and typical of similar sites in the area.

DATES: If approved, the new fees would be implemented no earlier than six months following the publication of this notice in the Federal Register.

ADDRESSES: Arapaho-Roosevelt National Forest, 2150 Centre Avenue, Building E, Fort Collins, CO 80526.

FOR FURTHER INFORMATION CONTACT: Hallie Groff, District Recreation Staff Officer, 970-217-6950 or comments-rm-arapaho-roosevelt-canyon-lakes@usda.gov.

SUPPLEMENTARY INFORMATION: The Federal Recreation Lands Enhancement Act (Title VII, Pub. L. 108-447) directed the Secretary of Agriculture to publish a six-month advance notice in the Federal Register whenever new recreation fee areas are established. The fees are only proposed at this time and will be determined upon further analysis and public comment. Reasonable fees, paid by users of these sites, will help ensure that the Forest can continue maintaining and improving recreation sites like this for future generations.

As part of this proposal, the Buckhorn Work Center group site is proposed at $200 per day for a group size of 100 people. In addition, this proposal would implement new fees at seven recreation rentals: Corral Park Cabin for $100 per night; Buckhorn Assistant Ranger, Buckhorn Office, and Buckhorn Bunkhouse Cabin for $150 per night or $100 per night during winter; Redfeather Assistant Ranger Cabin and Buckhorn Ranger Cabin for $175 per night or $125 per night during winter; and the Redfeather Ranger Cabin for $200 per night or $150 per night during winter.

New fees would provide increased visitor opportunities, as well as increased staffing to address operations and maintenance needs and enhance customer service. Once public involvement is complete, these new fees will be reviewed by the Rocky Mountain Regional Office prior to a final decision and implementation.

Advanced reservations will be available through www.recreation.gov or by calling 1-877-444-6777. The reservation service charges an $8.00 fee for reservations.

Dated: August 1, 2022.
Sandra Watts,
Acting Associate Deputy Chief, National Forest System.

[FR Doc. 2022-16768 Filed 8-4-22; 8:45 am]

BILLING CODE 3411-15-P